DEPARTMENT OF TRANSPORTATION

Federal Aviation Administration

Notice of Intent To Rule on Application 09-22-C-00-ORD To Impose and Use the Revenue From a Passenger Facility Charge (PFC) at Chicago O'Hare International Airport, Chicago, IL

AGENCY: Federal Aviation Administration (FAA), DOT.

ACTION: Notice of Intent to Rule on Application.

SUMMARY: The FAA proposes to rule and invites public comment on the application to impose and use the revenue from a PFC Chicago O'Hare International Airport under the provisions of the 49 U.S.C. 40117 and Part 158 of the Federal Aviation Regulations (14 CFR Part 158).

DATES: Comments must be received on or before date which is 30 days after date of publication in the Federal Register.

ADDRESSES: Comments on this application may be mailed or delivered in triplicate to the FAA at the following address: Jack Delaney, Federal Aviation Administration, Acting Manager, Chicago Airports District Office, 2300 E. Devon, Des Plaines, Illinois 60018.

In addition, one copy of any comments submitted to the FAA must be mailed or delivered to Rosemarie Andolino, Commissioner of the City of Chicago Department of Aviation at the following address: Chicago O'Hare International Airport, 10510 West Zemke Road, P.O. Box 66142, Chicago, Illinois 60666.

Air carriers and foreign air carriers may submit copies of written comments previously provided to the City of Chicago Department of Aviation under section 158.23 of Part 158.

FOR FURTHER INFORMATION CONTACT: Jack Delaney, Federal Aviation Administration, Acting Manager, Chicago Airports District Office, 2300 E. Devon, Des Plaines, Illinois 60018, (847) 294-7336. The application may be reviewed in person at this same location.

SUPPLEMENTARY INFORMATION: The FAA proposes to rule and invites public comment on the application to impose, use the revenue from, impose and use the revenue from a PFC at Chicago O'Hare International Airport under the provisions of the 49 U.S.C. 40117 and Part 158 of the Federal Aviation Regulations (14 CFR Part 158).

On September 17, 2009, the FAA determined that the application to impose, use the revenue from, impose and use the revenue from a PFC submitted by City of Chicago Department of Aviation was substantially complete within the requirements of section 158.25 of Part 158. The FAA will approve or disapprove the application, in whole or in part, no later than January 1, 2010.

The following is a brief overview of the application.

Proposed charge effective date: May 1, 2026.

Proposed charge expiration date: April 1, 2028.

Level of the proposed PFC: $4.50.

Total estimated PFC revenue: $274,750,247.

Brief description of proposed project(s): Remaining O'Hare Modernization Program Residential Sound Insulation.

Class or classes of air carriers which the public agency has requested not be required to collect PFCs: Air taxi.

Any person may inspect the application in person at the FAA Office listed above under FOR FURTHER INFORMATION CONTACT and at the FAA regional Airports office located at: 2300 E. Devon, Des Plaines, Illinois 60018.

In addition, any person may, upon request, inspect the application, notice and other documents germane to the application in person at the City of Chicago Department of Aviation.

Issued in Des Plaines, Illinois, on September 21, 2009.
Elliott Black,
Manager, Planning/Programming Branch, Airports Division Great Lakes Region.

[FR Doc. E9-23942 Filed 10-5-09; 8:45 am]

BILLING CODE 4910-13-M